DEPARTMENT OF COMMERCE

Census Bureau

Proposed Information Collection; Comment Request; 2008 Business Research and Development Survey Pilot: The Redesigned Survey of Industrial Research and Development

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 20, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Richard Hough, U.S. Census Bureau, MCD HQ-7K150A, 4600 Silver Hill Rd., Suitland, MD 20746, (301) 763-4823 (or via the internet at richard.s.hough@census.gov).

SUPPLEMENTARY INFORMATION:

I. Abstract

The U.S. Census Bureau, with support from the National Science Foundation (NSF), plans to conduct a pilot of the new Business Research and Development Survey (BRDS) for the 2008 survey year. The BRDS represents a revision to the currently approved annual collection of the Survey of Industrial Research and Development.

The Census Bureau has conducted the Survey of Industrial Research and Development (SIRD) since 1957, collecting primarily financial information on the systematic work companies were undertaking with the goal of discovering new knowledge or using existing knowledge to develop new or improved goods and services. During the past 50 years, the NSF and Census Bureau have made changes to the content of the SIRD based on input from companies responding to the survey as well as users of the data. The fundamental concepts of the survey were largely untouched. More recently, prompted by recommendations from the 2005 Committee on National Statistics (CNSTAT) Report, Measuring Research and Development Expenditures in the U.S. Economy, the NSF and Census Bureau began a full-scale redesign of the SIRD. The goal of the redesign was to produce high-quality, relevant data on R&D in the business sector that took into account the changing reality of R&D and innovation.

An inter-agency team evaluated the need for different types of data as well as the availability of those data within company records. This evaluation has resulted in numerous proposed changes. The content changes include but are not limited to:

• Adopting a definition of R&D based on accounting standards.

• Collecting worldwide R&D of domestic companies.

• Collecting business segment detail.

• Collecting R&D related capital expenditures.

• Collecting more detailed data about the R&D workforce.

• Gauging the R&D strategy of companies, and the potential impact of R&D on the market.

• Identifying R&D directed to application areas of particular national interest.

• Measuring intellectual property and technology transfer.

Because of the broad scope of the data that will be requested, it is unlikely that a single point of contact within each company will be best able to answer all the questions. The BRDS will utilize a modular instrument that will facilitate obtaining of information from various contacts within each company that have the best understanding of the concepts and definitions being presented as well as access to the information necessary to provide the most accurate response. The modules have been defined by grouping questions based on subject matter areas within the company and currently include: A financial module focused on company R&D expenses; a human resources module; an R&D strategy and management module; an IP and technology transfer module; and a module focused on R&D that is funded or paid for by third parties. A web version of the survey is also being developed using this same approach. This modular instrument design is a departure from the SIRD and poses unique challenges in terms of contact strategies. Only companies identified as having a significant amount of R&D expenses will receive the modular version of the BRDS. All other companies will receive a shorter version of the survey.

The 2008 BRDS pilot will be mailed to the entire sample. A comprehensive response analysis study will be conducted prior to the 2009 survey year. We will utilize the historic time series to evaluate data items that are intended to collect the same concepts presented in the SIRD.

II. Method of Collection

The Census Bureau will use mail out/ mail back survey forms and a web based collection for the pilot. Companies will be asked to respond within 60 days of the initial mail out.

III. Data

OMB Control Number: 0607-0912.

Form Number: BRD1 & BRD1A.

Type of Review: Regular submission.

Affected Public: Business or other for-profit organizations; not for-profit institutions; r-profit; non-farm companies with 5 or more employees.

Estimated Number of Respondents: 40,000.

Estimated Time per Response: 30 minutes to 24 hours (Average time: 4 hours).

Estimated Total Annual Burden Hours: 155,300.

Estimated Total Annual Cost: $0.

Respondent's Obligation: Mandatory.

Legal Authority: Title 13 U.S.C. 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 15, 2008.
Gwellnar Banks,
Management Analyst, Office of the Chief Information Officer.

[FR Doc. E8-8429 Filed 4-18-08; 8:45 am]

BILLING CODE 3510-07-P